DEPARTMENT OF COMMERCE

International Trade Administration

[A-533-873]

Certain Cold-Drawn Mechanical Tubing of Carbon and Alloy Steel From India: Preliminary Results of Antidumping Duty Administrative Reviews of Goodluck India Limited; 2017-2019 and 2019-2020

AGENCY: Enforcement and Compliance, International Trade Administration, Department of Commerce.

SUMMARY: The U.S. Department of Commerce (Commerce) preliminarily finds that Goodluck India Limited (Goodluck) made sales of certain cold-drawn mechanical tubing of carbon and alloy steel (CDMT) from India in the United States at prices below normal value (NV) during the periods of review (PORs) of November 22, 2017, through May 31, 2019 (AR1) and June 1, 2019, through May 31, 2020 (AR2). We invite interested parties to comment on these preliminary results.

DATES: Applicable December 20, 2022.

FOR FURTHER INFORMATION CONTACT: Javier Barrientos, AD/CVD Operations, Office V, Enforcement and Compliance, International Trade Administration, Department of Commerce, 1401 Constitution Avenue NW, Washington, DC 20230; telephone: (202) 482-2243.

SUPPLEMENTARY INFORMATION:

Background

On June 11, 2018, Commerce published in the Federal Register the antidumping duty (AD) order on CDMT from India.¹ On July 29, 2019, we initiated an administrative review of 16 companies, including Goodluck (i.e., AR1).² Prior to the conclusion of AR1, pursuant to a decision of the U.S. Court of International Trade, entries of CDMT produced and exported by Goodluck were excluded from the Order,³ and AR1 was suspended with respect to the company.

¹ See Certain Cold-Drawn Mechanical Tubing of Carbon and Alloy Steel from the People's Republic of China, the Federal Republic of Germany, India, Italy, the Republic of Korea, and Switzerland: Antidumping Duty Orders; and Amended Final Determinations of Sales at Less Than Fair Value for the People's Republic of China and Switzerland, 83 FR 26962 (June 11, 2018) (Order).

² See Initiation of Antidumping and Countervailing Duty Administrative Reviews, 84 FR 36572 (July 29, 2019).

³ See Certain Cold-Drawn Mechanical Tubing of Carbon and Alloy Steel from India: Notice of Court Decision Not in Harmony With Final Determination of Sales at Less Than Fair Value; Notice of Amended Final Determination Pursuant to Court Decision; and Notice of Revocation of Antidumping Duty Order, in Part, 85 FR 31742 (May 27, 2020).

On August 6, 2020, we initiated an administrative review (AR2) of three companies, including Goodluck. However, due to the above-referenced exclusion, the review only covered a limited subset of Goodluck's entries, i.e., entries that were produced, but not exported by, Goodluck, and entries that were exported, but not produced, by Goodluck.⁴

⁴ See Initiation of Antidumping and Countervailing Duty Administrative Reviews, 85 FR 47731 (August 6, 2020); see also Certain Cold-Drawn Mechanical Tubing of Carbon and Alloy Steel from India: Final Results of Antidumping Duty Administrative Review and Final Determination of No Shipments; 2019-2020, 86 FR 59982 (October 29, 2021) (finding that Goodluck had no shipments during the POR under the producer/exporter combinations under review).

On December 29, 2021, following Goodluck's reinstatement in the Order, Commerce published a notice announcing the resumption of AR1 with respect to Goodluck, and the reinitiation of AR2 with respect to Goodluck.⁵

⁵ See Certain Cold-Drawn Mechanical Tubing of Carbon and Alloy Steel from India: Notice of Second Amended Final Determination; Notice of Amended Order; Notice of Resumption of First and Reinitiation of Second Antidumping Duty Administrative Reviews; Notice of Opportunity for Withdrawal; and Notice of Assessment in Third Antidumping Duty Administrative Review, 86 FR 74069 (December 29, 2021) (AR1 Resumption and AR2 Reinitiation Notice). As a result of Goodluck's reinstatement to the Order, AR2 now covers all entries produced and exported by Goodluck during the POR.

On August 17, 2022, pursuant to section 751(a)(3)(A) of the Tariff Act of 1930, as amended (the Act), Commerce determined that it was not practicable to complete the preliminary results of these reviews within 245 days, and we extended the preliminary results by 70 days, until November 9, 2022.⁶ On November 4, 2022, Commerce further extended the preliminary results for AR1 and AR2 by 35 days to December 14, 2022.⁷

⁶ See Memorandum, “Extension of Deadline for Preliminary Results of 2017-2019 and 2019-2020 Antidumping Duty Administrative Reviews of Goodluck India Limited,” dated August 17, 2022.

⁷ See Memorandum, “Extension of Deadline for Preliminary Results of 2017-2019 and 2019-2020 Antidumping Duty Administrative Reviews of Goodluck India Limited,” dated November 4, 2022.

For details regarding the events that occurred subsequent to the resumption and reinitiation of these reviews, see the Preliminary Decision Memorandum.⁸ A list of topics included in the Preliminary Decision Memorandum is included as an appendix to this notice. The Preliminary Decision Memorandum is a public document and is made available to the public via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁸ See Memorandum, “Decision Memorandum for the Preliminary Results of the Antidumping Duty Administrative Reviews of Goodluck India Limited,” dated concurrently with, and hereby adopted by, this notice (Preliminary Decision Memorandum).

Scope of the Order

The merchandise covered by the Order is certain cold-drawn mechanical tubing of carbon and alloy steel from India. For a full description of the scope, see the Preliminary Decision Memorandum.

Methodology

Commerce is conducting these reviews in accordance with sections 751(a)(1) and (2) of the Act. We calculated export price in accordance with section 772 of the Act. We calculated NV in accordance with section 773 of the Act. For a full description of the methodology underlying these preliminary results, see the Preliminary Decision Memorandum.

Preliminary Results of Reviews

We preliminarily determine the following weighted-average dumping margin exists for the period November 22, 2017, through May 31, 2019:

Exporter/producer | Weighted- average dumping margin (percent)
Goodluck India Limited | 1.59

We preliminarily determine the following weighted-average dumping margin exists for the period June 1, 2019, through May 31, 2020:

Exporter and producer | Weighted- average dumping margin (percent)
Goodluck India Limited | 1.39

Assessment Rates

Upon completion of these administrative reviews, Commerce shall determine, and CBP shall assess, AD duties on all appropriate entries. If Goodluck's weighted-average dumping margin in either review is zero or de minimis within the meaning of 19 CFR 351.106(c), we will instruct CBP to liquidate the appropriate entries without regard to antidumping duties.

In accordance with Commerce's “automatic assessment” practice, for entries of subject merchandise during the PORs produced by Goodluck where the company did not know that the merchandise was destined for the United States, we will instruct CBP to liquidate those entries at the all-others rate established in the original less-than-fair-value (LTFV) investigation if there is no rate for the intermediate company(ies) involved in the transaction.⁹

⁹ For a full discussion of this practice, see Antidumping and Countervailing Duty Proceedings: Assessment of Antidumping Duties, 68 FR 23954 (May 6, 2003).

The final results of these reviews shall be the basis for the assessment of AD duties on entries of merchandise covered by these reviews and the final results of AR2 shall be the basis for future deposits of estimated duties, where applicable.¹⁰

¹⁰ See section 751(a)(2)(C) of the Act.

Commerce intends to issue assessment instructions to CBP no earlier than 35 days after the date of publication of the final results of these reviews in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of these administrative reviews, as provided by section 751(a)(2)(C) of the Act: the cash deposit rate for merchandise produced and exported by Goodluck will be equal to the weighted-average dumping margin established in the final results of AR2, except if the rate is de minimis (i.e., less than 0.50 percent), in which case the cash deposit rate will be zero. These cash deposit requirements, when imposed, shall remain in effect until further notice.

Disclosure and Public Comment

We intend to disclose the calculations performed to parties within five days of public announcement of the preliminary results or, if there is no public announcement, within five days of the date of publication of this notice.¹¹ Pursuant to 19 CFR 351.309(c), interested parties may submit case briefs no later than 30 days after the date of publication of this notice. Rebuttal briefs, limited to issues raised in the case briefs, may be filed not later than seven days after the date for filing case briefs.¹² Parties who submit case briefs or rebuttal briefs in this proceeding are encouraged to submit with each argument: (1) a statement of the issue; (2) a brief summary of the argument; and (3) a table of authorities.¹³ Case and rebuttal briefs should be filed using ACCESS.¹⁴ Executive summaries should be limited to five pages total, including footnotes. Note that Commerce has temporarily modified certain of its requirements for serving documents containing business proprietary information, until further notice.¹⁵

¹¹ See 19 CFR 351.224(b).

¹² See 19 CFR 351.309(d); see also Temporary Rule Modifying AD/CVD Service Requirements Due to COVID-19; Extension of Effective Period, 85 FR 41363 (July 10, 2020) (Temporary Rule).

¹³ See 19 CFR 351.309(c)(2) and (d)(2).

¹⁴ See generally 19 CFR 351.303.

¹⁵ See Temporary Rule.

Interested parties who wish to request a hearing must do so within 30 days of publication of these preliminary results by submitting a written request to the Assistant Secretary for Enforcement and Compliance using Enforcement and Compliance's ACCESS system.¹⁶ Requests should contain the party's name, address, and telephone number, the number of participants, whether any participant is a foreign national, and a list of the issues to be discussed. Issues raised in the hearing will be limited to those raised in the respective case and rebuttal briefs.¹⁷ Parties are reminded that all briefs and hearing requests must be filed electronically using ACCESS and received successfully in their entirety by 5:00 p.m. Eastern Time on the due date. If a request for a hearing is made, Commerce intends to hold the hearing at a date and time to be determined.¹⁸ Parties should confirm by telephone the date, time, and location of the hearing two days before the scheduled date.

¹⁶ See 19 CFR 351.310(c).

¹⁷ See 19 CFR 351.310.

¹⁸ See 19 CFR 351.310(d).

Unless otherwise extended, Commerce intends to issue the final results of these administrative reviews, including the results of its analysis of the issues raised in any written briefs, not later than 120 days after the date of publication of this notice, pursuant to section 751(a)(3)(A) of the Act and 19 CFR 351.213(h)(1).

Notification to Importers

This notice also serves as a reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Notification to Interested Parties

We are issuing and publishing these results in accordance with sections 751(a)(1) and 777(i)(1) of the Act, and 19 CFR 351.213 and 351.221(b)(4).

Dated: December 13, 2022.
Lisa W. Wang,
Assistant Secretary for Enforcement and Compliance.

Appendix—List of Topics Discussed in the Preliminary Decision Memorandum

I. Summary

II. Background

III. Scope of the Order

IV. Discussion of the Methodology

V. Currency Conversion

VI. Recommendation

[FR Doc. 2022-27521 Filed 12-19-22; 8:45 am]

BILLING CODE 3510-DS-P